DEPARTMENT OF COMMERCE

National Oceanic and Atmospheric Administration

[I.D. 022805B]

Pacific Fishery Management Council; Public Meetings and Hearings

AGENCY: National Marine Fisheries Service (NMFS), National Oceanic and Atmospheric Administration (NOAA), Commerce.

ACTION: Notice of public hearings.

SUMMARY: The Pacific Fishery Management Council (Council) announces the dates and locations of public hearings to solicit comments on proposed options for ocean salmon fishery management measures for the 2005 season.

DATES: Written comments on the salmon management options must be received by March 29, 2005, at 4:30 p.m., Pacific time.

ADDRESSES: Written comments should be sent to Mr. Donald Hansen, Chairman, Pacific Fishery Management Council, 7700 NE Ambassador Place, Suite 200, Portland, OR 97220-1384, telephone: 503-820-2280 (voice) or 503-820-2299 (fax). For specific hearing locations, see SUPPLEMENTARY INFORMATION.

FOR FURTHER INFORMATION CONTACT: Mr. Chuck Tracy, telephone: 503-820-2280.

SUPPLEMENTARY INFORMATION: March 28-29, 2005: Public hearings will be held to receive comments on the proposed ocean salmon fishery management options adopted by the Council. All public hearings begin at 7 p.m. on the dates and at the locations specified here.

March 28, 2005: Chateau Westport, Beach Room, 710 W Hancock, Westport, WA 98595, telephone 360-268-9101.

March 28, 2005: Red Lion Hotel, South Umpqua Room, 1313 N Bayshore Drive, Coos Bay, OR 97420, telephone 541-269-4099.

March 29, 2005: Fort Bragg Town Hall, 363 North Main Street, Fort Bragg, CA 95437, telephone 707-961-2825.

Special Accommodations

The meetings are physically accessible to people with disabilities. Requests for sign language interpretation or other auxiliary aids should be directed to Ms. Carolyn Porter at 503-820-2280 (voice), or 503-820-2299 (fax) at least 5 days prior to the meeting date.

Dated: February 28, 2005.
Alan D. Risenhoover,
Acting Director, Office of Sustainable Fisheries, National Marine Fisheries Service.

[FR Doc. E5-893 Filed 3-3-05; 8:45 am]

BILLING CODE 3510-22-P